DEPARTMENT OF LABOR

5 CFR Chapter XLII

20 CFR Chapters IV, V, VI, VII, and IX

29 CFR Subtitle A and Chapters II, IV, V, VII, and XXV

30 CFR Chapter I

41 CFR Chapters 50, 60, and 61

48 CFR Chapter 29

Reducing Regulatory Burden; Retrospective Review Under E.O. 13563

AGENCY: Office of the Secretary, Labor.

ACTION: Request for Information.

SUMMARY: In response to the President's Executive Order 13563 on improving regulation and regulatory review, the Department of Labor (DOL or the Department) prepared a preliminary plan to review its existing significant regulations. The purpose of this notice is to invite public comment on the Department's preliminary plan.

DATES: Comments must be received on or before 11:59 p.m. (EDST) on July 1, 2011.

ADDRESSES: You may submit comments through the Department's Regulations Portal at http://dolregs.ideascale.com. All comments will be available for public inspection at http://dolregs.ideascale.com.

FOR FURTHER INFORMATION CONTACT: e. christi cunningham, Associate Assistant Secretary for Regulatory Affairs, U.S. Department of Labor, 200 Constitution Avenue, NW., Room S-2312, Washington, DC 20210, cunningham.christi@dol.gov, (202) 693-5959 (this is not a toll-free number). Individuals with hearing impairments may call 1-800-877-8339 (TTY/TDD).

SUPPLEMENTARY INFORMATION: On January 18, 2011, President Obama issued Executive Order 13563, “Improving Regulation and Regulatory Review.” The Order explains the Administration's goal of creating a regulatory system that protects “public health, welfare, safety, and our environment while promoting economic growth, innovation, competitiveness, and job creation” while using “the best, most innovative, and least burdensome tools to achieve regulatory ends.” The Executive Order requires agencies to develop and submit a preliminary plan within 120 days from the January 18 issuance date that explains how each agency will review existing significant regulations to identify whether any regulations may be made more effective or less burdensome.

On May 26, 2011, the Department published its preliminary plan (http://www.whitehouse.gov/21stcenturygov/actions/21st-century-regulatory-system). To ensure that the plan meets the objectives of the Executive Order and to benefit from the expertise of the Department's regulated communities, academia and the public, the Department is now requesting public comments on the preliminary plan.

To facilitate receipt of public comments, the Department has established an Internet portal specifically designed to capture your input and suggestions, http://dolregs.ideascale.com. By visiting the portal, you can review the Department's preliminary plan; provide input; and review suggestions and comments submitted by other interested parties. The Department is specifically seeking comments in the following areas:

• Rules currently under consideration for retrospective analysis.

• Development of a strong, ongoing culture of retrospective analysis and strengthening internal review expertise.

• Factors and processes that will be used in setting priorities.

• Plans for retrospective analysis, revisiting and revising rules and coordinating with other Federal agencies.

• Metrics used to evaluate regulations, ensuring availability of data and incorporation of experimental design.

The portal will be open to receive comments from June 2, 2011 through July 1, 2011.

When providing input, the Department requests that commenters provide as much detail as possible and provide empirical evidence and data to support responses, whenever possible. The Department will consider public comments as it finalizes its plan for Retrospective Analysis of Existing Rules. The Department is issuing this request solely to seek useful information as it develops its review plan. While responses to this request do not bind the Department to any further actions related to the response, all submissions will be made available to the public on http://dolregs.ideascale.com.

Authority: E.O. 13653, 76 FR 3821, Jan. 21, 2011; E.O. 12866, 58 FR 51735, Oct. 4, 1993.

Dated: June 7, 2011.
e. christi cunningham,
Associate Assistant Secretary for Regulatory Affairs.

[FR Doc. 2011-14585 Filed 6-10-11; 8:45 am]

BILLING CODE P